FEDERAL COMMUNICATIONS COMMISSION

47 CFR Part 73

[DA 00-918; MM Docket No. 99-206; RM-9625]

Radio Broadcasting Services; Kimberly, ID

AGENCY: Federal Communications Commission.

ACTION: Proposed rule; denial.

SUMMARY: This document denies a petition for rule making filed by Mountain West Broadcasting proposing the allotment of FM Channel 291C3 to Kimberly, Idaho, as that locality's first local aural transmission service. See 64 FR 31176, June 10, 1999. Evidence presented established that the proposed transmitter site at coordinates 42-30-22 NL and 114-21-45 WL to accommodate Channel 291C3 at Kimberly, is located on private property and not available for commercial use. The petitioner did not present any engineering showings to establish the availability of an alternate site. With this action, the proceeding is terminated.

ADDRESSES: Federal Communications Commission, Washington, DC 20554.

FOR FURTHER INFORMATION CONTACT: Nancy Joyner, Mass Media Bureau, (202) 418-2180.

SUPPLEMENTARY INFORMATION: This is a synopsis of the Commission's Report and Order, MM Docket No. 99-206, adopted April 12, 2000, and released April 25, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

Federal Communications Commission.
John A. Karousos,
Chief, Allocations Branch, Policy and Rules Division, Mass Media Bureau.

[FR Doc. 00-12258 Filed 5-15-00; 8:45 am]

BILLING CODE 6712-01-P